DEPARTMENT OF TRANSPORTATION

Federal Aviation Administration

14 CFR Part 95

[Docket No. 31225; Amdt. No. 546]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, June 20, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on May 17, 2019.
Rick Domingo,
Executive Director, Flight Standards Service.

Adoption of the Amendment

Accordingly, pursuant to the authority delegated to me by the Administrator, part 95 of the Federal Aviation Regulations (14 CFR part 95) is amended as follows effective at 0901 UTC, June 20, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 546 Effective Date, June 20, 2019]
From | To | MEA | MAA
§ 95.4000 High Altitude RNAV Routes
§ 95.4073 RNAV Route Q73 Is Amended To Read in Part
HAKMN, NV WP | ZZYZX, NV WP | *18000 | 45000
*18000—GNSS MEA
*DME/DME/IRU MEA
ZZYZX, NV WP | LAKRR, NV WP | *18000 | 45000
*18000—GNSS MEA
*DME/DME/IRU MEA
§ 95.4088 RNAV Route Q88 Is Amended by Adding
CHESZ, UT WP | SINRY, CO WP | *22000 | 45000
*18000—GNSS MEA
*DME/DME/IRU MEA
SINRY, CO WP | ZAKRY, CO WP | *22000 | 45000
*18000—GNSS MEA
*DME/DME/IRU MEA
ZAKRY, CO WP | YAMPA, CO WP | *22000 | 45000
*22000—GNSS MEA
*DME/DME/IRU MEA
YAMPA, CO WP | BICAR, NE WP | *22000 | 45000
*18000—GNSS MEA
*DME/DME/IRU MEA
BICAR, NE WP | CHUWY, NE WP | *22000 | 45000
*18000—GNSS MEA
*DME/DME/IRU MEA
CHUWY, NE WP | KEEFF, NE WP | *22000 | 45000
*18000—GNSS MEA
*DME/DME/IRU MEA
KEEFF, NE WP | GUDDY, SD WP | *22000 | 45000
*18000—GNSS MEA
*DME/DME/IRU MEA
GUDDY, SD WP | VIVID, SD FIX | *22000 | 45000
*18000—GNSS MEA
*DME/DME/IRU MEA
VIVID, SD FIX | JOYCC, SD WP | *22000 | 45000
*18000—GNSS MEA
*DME/DME/IRU MEA
JOYCC, SD WP | DKOTA, SD WP | *22000 | 45000
*18000—GNSS MEA
*DME/DME/IRU MEA
Is Amended To Read in Part
HAKMN, NV WP | ZZYZX, NV WP | *18000 | 45000
*18000—GNSS MEA
*DME/DME/IRU MEA
ZZYZX, NV WP | LAKRR, NV WP | *18000 | 45000
*18000—GNSS MEA
*DME/DME/IRU MEA
§ 95.4090 RNAV Route Q90 Is Amended by Adding
JASSE, AZ WP | NAVJO, AZ WP | *24000 | 45000
*18000—GNSS MEA
*DME/DME/IRU MEA
NAVJO, AZ WP | YAMHA, CO WP | *24000 | 45000
*18000—GNSS MEA
*DME/DME/IRU MEA
YAMHA, CO WP | DAAYE, CO WP | *24000 | 45000
*18000—GNSS MEA
*DME/DME/IRU MEA
DAAYE, CO WP | SKWYR, CO WP | *24000 | 45000
*18000—GNSS MEA
*DME/DME/IRU MEA
SKWYR, CO WP | HUSQA, KS WP | *24000 | 45000
*18000—GNSS MEA
*DME/DME/IRU MEA
HUSQA, KS WP | VARNE, KS WP | 24000 | 45000
*18000—GNSS MEA
*DME/DME/IRU MEA
VARNE, KS WP | ATIJA, KS WP | *20000 | 45000
*18000—GNSS MEA
*DME/DME/IRU MEA
ATIJA, KS WP | LEFAM, NE WP | 20000 | 45000
*18000—GNSS MEA
*DME/DME/IRU MEA
LEFAM, NE WP | BOVEY, MO WP | *20000 | 45000
*18000—GNSS MEA
*DME/DME/IRU MEA
BOVEY, MO WP | WELKY, IA WP | *20000 | 45000
*18000—GNSS MEA
*DME/DME/IRU MEA
§ 95.4092 RNAV Route Q92 Is Amended by Adding
CHUWY, NE WP | KUTCH, NE WP | *22000 | 45000
*20000—GNSS MEA
*DME/DME/IRU MEA
KUTCH, NE WP | WYYTE, NE WP | *22000 | 45000
*20000—GNSS MEA
*DME/DME/IRU MEA
WYYTE, NE WP | MAASI, NE WP | *20000 | 45000
*20000—GNSS MEA
*DME/DME/IRU MEA
MAASI, NE WP | HANKU, IA WP | *20000 | 45000
*20000—GNSS MEA
*DME/DME/IRU MEA
HANKU, IA WP | JORDY, IA FIX | *20000 | 45000
*20000—GNSS MEA
*DME/DME/IRU MEA
§ 95.4098 RNAV Route Q98 Is Amended To Read in Part
HAKMN, NV WP | ZZYZX, NV WP | *18000 | 45000
*18000—GNSS MEA
*DME/DME/IRU MEA
ZZYZX, NV WP | LAKRR, NV WP | *18000 | 45000
*18000—GNSS MEA
*DME/DME/IRU MEA
§ 95.4114 RNAV Route Q114 Is Amended by Adding
BUGGG, UT WP | ZAKRY, CO WP | *24000 | 45000
*18000—GNSS MEA
*DME/DME/IRU MEA
ZAKRY, CO WP | BULDG, CO WP | *20000 | 45000
*20000—GNSS MEA
*DME/DME/IRU MEA
BULDG, CO WP | COUGH, CO WP | *20000 | 45000
*20000—GNSS MEA
*DME/DME/IRU MEA
COUGH, CO WP | AVVVS, CO FIX | *20000 | 45000
*18000—GNSS MEA
*DME/DME/IRU MEA
AVVVS, CO FIX | BRAFF, CO WP | *20000 | 45000
*18000—GNSS MEA
*DME/DME/IRU MEA
BRAFF, CO WP | GOORE, CO WP | *20000 | 45000
*18000—GNSS MEA
*DME/DME/IRU MEA
GOORE, CO WP | AYOLE, NE WP | *20000 | 45000
*18000—GNSS MEA
*DME/DME/IRU MEA
AYOLE, NE WP | PECKS, NE WP | *20000 | 45000
*18000—GNSS MEA
*DME/DME/IRU MEA
PECKS, NE WP | LEONG, IA WP | *20000 | 45000
*18000—GNSS MEA
*DME/DME/IRU MEA
§ 95.4126 RNAV Route Q126 Is Amended by Adding
GAROT, UT WP | KREYK, UT WP | *19000 | 45000
*18000—GNSS MEA
*DME/DME/IRU MEA
KREYK, UT WP | DRRSI, UT WP | *19000 | 45000
*18000—GNSS MEA
*DME/DME/IRU MEA
DRRSI, UT WP | LBATO, UT WP | *19000 | 45000
*18000—GNSS MEA
*DME/DME/IRU MEA
LBATO, UT WP | BASNN, CO WP | *19000 | 45000
*18000—GNSS MEA
*DME/DME/IRU MEA
BASNN, CO WP | BRAFF, CO WP | *19000 | 45000.
*19000—GNSS MEA
*DME/DME/IRU MEA
Is Amended To Delete
GAROT, UT WP | MEEKER, CO VOR/DME | *18000 | 45000
*GNSS REQUIRED
Is Amended To Read In Part
INSLO, NV WP | CHUKR, NV WP | *26000 | 45000
*18000—GNSS MEA
*DME/DME/IRU MEA
CHUKR, NV WP | TTOES, NV WP | 26000 | 45000
*18000—GNSS MEA
*DME/DME/IRU MEA
TTOES, NV WP | GAROT, UT WP | *26000 | 45000
*18000—GNSS MEA
*DME/DME/IRU MEA
§ 95.4136 RNAV Route Q136 Is Amended by Adding
VOAXA, CO FIX | COUGH, CO WP | *21000 | 45000
*21000—GNSS MEA
*DME/DME/IRU MEA
COUGH, CO WP | BIIKE, CO WP | *21000 | 45000
*18000—GNSS MEA
*DME/DME/IRU MEA
BIIKE, CO WP | ZIRKL, NE WP | *21000 | 45000
*18000—GNSS MEA
*DME/DME/IRU MEA
ZIRKL, NE WP | KAWWA, NE WP | *21000 | 45000
*18000—GNSS MEA
*DME/DME/IRU MEA
KAWWA, NE WP | SYTHH, NE WP | *21000 | 45000
*18000—GNSS MEA
*DME/DME/IRU MEA
SYTHH, NE WP | AYEGI, NE WP | *19000 | 45000
*18000—GNSS MEA
*DME/DME/IRU MEA
AYEGI, NE WP | TURCK, NE WP | *19000 | 45000
*18000—GNSS MEA
*DME/DME/IRU MEA
TURCK, NE WP | WRNCH, IA WP | *19000 | 45000
*18000—GNSS MEA
*DME/DME/IRU MEA
WRNCH, IA WP | BVEEE, IA WP | *19000 | 45000
*18000—GNSS MEA
*DME/DME/IRU MEA
BVEEE, IA WP | HIBAV, IA WP | *19000 | 45000
*18000—GNSS MEA
*DME/DME/IRU MEA
HIBAV, IA WP | BAACN, IA WP | *19000 | 45000
*18000—GNSS MEA
*DME/DME/IRU MEA
Is Amended To Read in Part
COALDALE, NV VORTAC | RUMPS, NV WP | *18000 | 45000
*GNSS REQUIRED
RUMPS, NV WP | KATTS, NV WP | *18000 | 45000
*GNSS REQUIRED
KATTS, NV WP | CRLES, NV WP | *18000 | 45000
*GNSS REQUIRED
CRLES, NV WP | GDGET, UT WP | *26000 | 45000
*18000—GNSS MEA
*DME/DME/IRU MEA
GDGET, UT WP | TRALP, UT WP | *26000 | 45000
*18000—GNSS MEA
*DME/DME/IRU MEA
TRALP, UT WP | MANRD, UT WP | *26000 | 45000
*18000—GNSS MEA
*DME/DME/IRU MEA
MANRD, UT WP | WEEMN, UT WP | *26000 | 45000
*18000—GNSS MEA
*DME/DME/IRU MEA
WEEMN, UT WP | ELLFF, CO WP | *26000 | 45000
*18000—GNSS MEA
*DME/DME/IRU MEA
ELLFF, CO WP | VOAXA, CO FIX | *21000 | 45000
*18000—GNSS MEA
*DME/DME/IRU MEA
§ 95.4150 RNAV Route Q150 Is Amended by Adding
OPPEE, WY WP | YAMPA, CO WP | *24000 | 45000
*18000—GNSS MEA
*DME/DME/IRU MEA
YAMPA, CO WP | BIIKE, CO WP | *24000 | 45000
*18000—GNSS MEA
*DME/DME/IRU MEA
BIIKE, CO WP | DUUZE, KS WP | *24000 | 45000
*18000—GNSS MEA
*DME/DME/IRU MEA
SNY
DUUZE, KS WP | EXHAS, KS WP | *24000 | 45000
*18000—GNSS MEA
*DME/DME/IRU MEA

From | To | MEA
§ 95.6001 Victor Routes—U.S.
§ 95.6013 VOR Federal Airway V13 Is Amended To Read in Part
SOLON, TX FIX | CORPUS CHRISTI, TX VORTAC | 1800
*WORRY, TX FIX | PALACIOS, TX VORTAC | 1700
*2100—MRA
§ 95.6020 VOR Federal Airway V20 Is Amended To Read in Part
SOLON, TX FIX | CORPUS CHRISTI, TX VORTAC | 1800
TUXDO, SC FIX | SUGARLOAF MOUNTAIN, NC VORTAC | 6200
SUGARLOAF MOUNTAIN, NC VORTAC | BARRETTS MOUNTAIN, NC VOR/DME | 6200
BARRETTS MOUNTAIN, NC VOR/DME | LEAKS, NC FIX | 3600
§ 95.6035 VOR Federal Airway V35 Is Amended To Read in Part
TUXDO, SC FIX | SUGARLOAF MOUNTAIN, NC VORTAC | 6200
SUGARLOAF MOUNTAIN, NC VORTAC | *BUSIC, NC FIX | 8800
*9000—MCA BUSIC, NC FIX, N BND
BUSIC, NC FIX | *ROANS, TN FIX | 9000
*9000—MCA ROANS, TN FIX, S BND
CHARLESTON, WV VOR/DME | CARLA, WV FIX | *4000
*3000—MOCA
CARLA, WV FIX | BENZO, WV FIX | *4000
*3300—MOCA
BENZO, WV FIX | CLARKSBURG, WV VOR/DME | 3300
§ 95.6053 VOR Federal Airway V53 Is Amended To Read in Part
CARTT, SC FIX | SUGARLOAF MOUNTAIN, NC VORTAC
| NW BND | 6200
| SE BND | 3000
SUGARLOAF MOUNTAIN, NC VORTAC | *BUSIC, NC FIX | 8800
*9000—MCA BUSIC, NC FIX, N BND
BUSIC, NC FIX | *ROANS, TN FIX | 9000
*9000—MCA ROANS, TN FIX, S BND
HAZARD, KY VOR/DME | *IRVIN, KY FIX | 4000
*6000—MRA
*IRVIN, KY FIX | LEXINGTON, KY VOR/DME | 4000
*6000—MRA
LEXINGTON, KY VOR/DME | *LOUISVILLE, KY VORTAC | 2800
*7000—MCA | LOUISVILLE, KY VORTAC, NW BND
§ 95.6097 VOR Federal Airway V97 Is Amended To Read in Part
LA BELLE, FL VORTAC | ROGAN, FL FIX |
| SE BND | *2000
| NW BND | *4000
*2000—GNSS MEA
ROGAN, FL FIX | *BRDGE, FL FIX | **5000
*4300—MCA | BRDGE, FL FIX, SE BND
**1400—MOCA
**2000—GNSS MEA
BRDGE, FL FIX | *ST PETERSBURG, FL VORTAC | 2000
*3600—MCA | ST PETERSBURG, FL VORTAC, NW BND
ST PETERSBURG, FL VORTAC | DARBS, FL FIX
| SE BND | *2100
| NW BND | *6000
*2100—GNSS MEA
DARBS, FL FIX | PLYER, FL FIX | *8000
*1400—MOCA
*4000—GNSS MEA
PLYER, FL FIX | CLAMP, FL FIX | *8000
*1400—MOCA
*4000—GNSS MEA
CLAMP, FL FIX | HEVVN, FL FIX |
| NW BND | *6000
| SE BND | *8000
*1400—MOCA
*4000—GNSS MEA
HEVVN, FL FIX | ADDAX, FL FIX
| NW BND | *3000
| SE BND | *6000
*1400—MOCA
*2000—GNSS MEA
ADDAX, FL FIX | SEMINOLE, FL VORTAC
| NW BND | *2000
| SE BND | *5000
*2000—GNSS MEA
§ 95.6121 VOR Federal Airway V121 Is Amended To Read in Part
MOURN, OR FIX | ROSEBURG, OR VOR/DME |
| W BND | 6000
| E BND | 7000
ROSEBURG, OR VOR/DME | NORTH BEND, OR VOR/DME | 6000
NORTH BEND, OR VOR/DME | SCOTY, OR FIX
| NE BND | 5000
| SW BND | 4400
SCOTY, OR FIX | *VAUGN, OR FIX | 5000
*7000—MRA
*VAUGN, OR FIX | **EUGENE, OR VORTAC
| NE BND | 4100
| SW BND | 5000
*7000—MRA
**9000—MCA EUGENE, OR VORTAC, E BND
EUGENE, OR VORTAC | DOSEE, OR FIX |
| E BND | 10000
| W BND | 5200
DOSEE, OR FIX | VIDAS, OR FIX |
| E BND | 11600
| W BND | 6000
VIDAS, OR FIX | WHIFF, OR FIX | *13000
*7500—MOCA
*12000—GNSS MEA
SNOKY, OR FIX | *DESCHUTES, OR VORTAC |
| E BND | 8000
| W BND | 13000
*10400—MCA DESCHUTES, OR | VORTAC, W BND |
§ 95.6159 VOR Federal Airway V159 Is Amended To Read in Part
OCALA, FL VORTAC | *PERSE, FL FIX | 2000
*3000—MRA
*PERSE, FL FIX | **WILON, FL FIX | 2000
*3000—MRA
**3000—MRA
*WILON, FL FIX | CROSS CITY, FL VORTAC | 2000
*3000—MRA
§ 95.6160 VOR Federal Airway V160 Is Amended To Read in Part
*BLUE MESA, CO VOR/DME | MURFE, CO FIX | 16400
*13100—MCA | BLUE MESA, CO VOR/DME, NE BND |
§ 95.6163 VOR Federal Airway V163 Is Amended To Read in Part
SOLON, TX FIX | CORPUS CHRISTI, TX VORTAC | 1800
CORPUS CHRISTI, TX VORTAC | SINTO, TX FIX | 1800
SINTO, TX FIX | THREE RIVERS, TX VORTAC | 2000
THREE RIVERS, TX VORTAC | YENNS, TX FIX |
| S BND | 2000
| N BND | 3000
§ 95.6198 VOR Federal Airway V198 Is Amended To Read in Part
BROOKLEY, AL VORTAC | CRESTVIEW, FL VORTAC | 3100
CRESTVIEW, FL VORTAC | DEFUN, FL FIX |
| W BND | 2000
| E BND | 3000
DEFUN, FL FIX | *CHEWS, FL FIX | **3000
*2500—MCA | CHEWS, FL FIX, W BND |
**1800—MOCA
§ 95.6222 VOR Federal Airway V222 Is Amended To Read in Part
FOOTHILLS, SC VORTAC | SUNET, SC FIX | *6100
*4800—MOCA
SUNET, SC FIX | SUGARLOAF MOUNTAIN, NC VORTAC | 7100
SUGARLOAF MOUNTAIN, NC | VORTAC BARRETTS MOUNTAIN, NC VOR/DME | 6200
§ 95.6241 VOR Federal Airway V241 Is Amended To Read in Part
SEMMES, AL VORTAC | CRESTVIEW, FL VORTAC | 3100
§ 95.6295 VOR Federal Airway V295 Is Amended To Read in Part
OCALA, FL VORTAC | *PERSE, FL FIX | 2000
*3000—MRA
*PERSE, FL FIX | **WILON, FL FIX | 2000
*3000—MRA
**3000—MRA
*WILON, FL FIX | CROSS CITY, FL VORTAC | 2000
*3000—MRA
§ 95.6312 VOR Federal Airway V312 Is Amended To Read in Part
*DRIFT, NJ FIX | **PREPI, OA FIX | ***4800
*6000—MRA
**8000—MRA
***2500—GNSS MEA
§ 95.6314 VOR Federal Airway V314 Is Amended To Read in Part
U.S. CANADIAN BORDER | *PATTA, ME FIX | **6000
*10000—MRA
**3900—MOCA
*PATTA, ME FIX | MILLINOCKET, ME VOR/DME | **6000
*10000—MRA
**3900—MOCA
§ 95.6352 VOR Federal Airway V352 Is Amended To Read in Part
U.S. CANADIAN BORDER | *PATTA, ME FIX | 6500
*10000—MRA
*PATTA, ME FIX | HOULTON, ME VOR/DME | 6500
*10000—MRA
§ 95.6407 VOR Federal Airway V407 Is Amended To Read in Part
*WORRY, TX FIX | PALACIOS, TX VORTAC | 1700
*2100—MRA
§ 95.6441 VOR Federal Airway V441 Is Amended To Read in Part
BAYPO, FL FIX | NITTS, FL FIX | *4000
*1500—MOCA
NITTS, FL FIX | OCALA, FL VORTAC |
| NE BND | 2000
| SW BND | 4000
§ 95.6492 VOR Federal Airway V492 Is Amended To Delete
ST PETERSBURG, FL VORTAC | LA BELLE, FL VORTAC | 2000
§ 95.6499 VOR Federal Airway V499 Is Amended To Read in Part
LANCASTER, PA VOR/DME | CHLSE, PA FIX |
| N BND | *8000
| S BND | *6000
*4000—MOCA
CHLSE, PA FIX | MEGSS, PA FIX | *8000
*4300—MOCA
MEGSS, PA FIX | BINGHAMTON, NY VOR/DME |
| N BND | 4900
| S BND | 8000
§ 95.6579 VOR Federal Airway V579 Is Amended To Read in Part
BAYPO, FL FIX | NITTS, FL FIX | *4000
*1500—MOCA
NITTS, FL FIX | GATORS, FL VORTAC |
| S BND | *4000
| N BND | *3000
*2100—MOCA
§ 95.6605 VOR Federal Airway V605 Is Amended To Read in Part
#SPARTANBURG, SC VORTAC | *GENOD, NC FIX | **7000
*10000—MCA GENOD, NC FIX, N BND
**6000—MOCA
**6000—GNSS MEA
#5200—MCA SPARTANBURG, SC VORTAC, N BND
GENOD, NC FIX | *HOLSTON MOUNTAIN, TN VORTAC | **10000
*8500—MCA | HOLSTON MOUNTAIN, TN VORTAC, S BND |
**8500—MOCA

From | To | MEA | MAA
§ 95.7001 Jet Routes
§ 95.7211 Jet Route J211 Is Amended To Read in Part
YOUNGSTOWN, OH VORTAC | JOHNSTOWN, PA VOR/DME | 18000 | 45000

Airway segment: From | Airway segment: To | Changeover points: Distance | Changeover points: From
§ 95.8003 VOR Federal Airway Changeover Point
V159 Is Amended To Add Changeover Point
OCALA, FL VORTAC | CROSS CITY, FL VORTAC | 28 | OCALA
V295 Is Amended To Add Changeover Point
OCALA, FL VORTAC | CROSS CITY, FL VORTAC | 28 | OCALA

[FR Doc. 2019-10951 Filed 5-23-19; 8:45 am]

BILLING CODE 4910-13-P